DEPARTMENT OF COMMERCE

International Trade Administration

[A-570-888]

Floor-Standing, Metal-Top Ironing Tables and Certain Parts Thereof from the People's Republic of China: Final Results and Final Rescission, In Part, of Antidumping Duty Administrative Review

AGENCY: Import Administration, International Trade Administration, Department of Commerce.

SUMMARY: On September 12, 2006, the U.S. Department of Commerce (the Department) published the preliminary results of the first administrative review of the antidumping duty order on floor-standing, metal-top ironing tables and certain parts thereof (ironing tables) from the People's Republic of China (PRC). See Floor-Standing, Metal-Top Ironing Tables and Certain Parts Thereof from the People's Republic of China: Preliminary Results of Antidumping Duty Administrative Review, 71 FR 53655, (September 12, 2006) (Preliminary Results). This review covers three producer/exporters: (1) Since Hardware (Guangzhou) Co., Ltd. (Since Hardware); (2) Forever Holdings Ltd. (Forever Holdings); and (3) Foshan Shunde Yongjian Houseware & Hardware Co., Ltd. (Foshan Shunde). The period of review (POR) is February 3, 2004, through July 31, 2005. We have made changes to certain surrogate values based on our analysis of the record, including factual information obtained since the preliminary results. Therefore, the final results differ from the preliminary results. We are also rescinding this review with respect to Shunde Yongjian Houseware Co., Ltd. (Shunde Yongjian). See “Final Results of Review” section below.

EFFECTIVE DATE: March 21, 2007.

FOR FURTHER INFORMATION CONTACT: Kristina Horgan or Bobby Wong, AD/CVD Operations, Office 9, Import Administration, International Trade Administration, U.S. Department of Commerce, 14th Street and Constitution Avenue, NW, Washington, DC 20230; telephone: (202) 482-8173 or (202) 482-0409, respectively.

SUPPLEMENTARY INFORMATION:

Background

We published the preliminary results of the third administrative review on September 12, 2006 in the Federal Register. See Preliminary Results.

Since the Preliminary Results the following events have occurred:

On August 31, 2006, we issued a supplemental questionnaire to Foshan Shunde to inquire about its relationship with Shunde Yongjian. On September 14, 2006, we received the supplemental questionnaire response from Foshan Shunde, and an addendum to that response on September 15, 2006. On September 20, 2006, we extended the time limit for submitting further information to value the factors of production until October 16, 2006. On October 16, 2006, we received a surrogate value submission from Home Products International Inc. (petitioner).

From November 13 through 16, 2006, the Department conducted a verification of Since Hardware's sales and factors of production information at Since Hardware's facilities in Guangzhou, Guangdong, PRC. See Memorandum to the File from James Doyle, Director, Office 9, and Carrie Blozy, Program Manager, Office 9, regarding Verification of the Sales and Factors Response of Since Hardware (Guangzhou) Co. Ltd. in the First Antidumping Administrative Review of Floor-Standing, Metal-Top Ironing Tables People's Republic of China (January 22, 2007) (Since Hardware Verification Report).

From January 9 through 12, 2007, the Department conducted a verification of Foshan Shunde's sales and factors of production information at Foshan Shunde's facilities in Foshan, Guangdong, PRC. See Memorandum to the File from Kristina Horgan, Senior Case Analyst, Office 9, and Bobby Wong, Case Analyst, Office 9, regarding Verification of the Sales & Factors Responses of Foshan Shunde Yongjian Housewares & Hardware Co., Ltd. in the Antidumping Duty Review of Floor-Standing Metal-Top Ironing Tables and Parts Thereof from the People's Republic of China (January 22, 2007) (Foshan Shunde Verification Report).

We invited parties to comment on our Preliminary Results. On January 24, 2007, Since Hardware requested a one-day extension of the deadline to submit case briefs, and on January 25, 2007, the Department granted that request. We received case briefs from petitioner, Since Hardware, Forever Holdings, and Foshan Shunde on January 30, 2007. On February 2, 2007, we requested comments on the Department's revised expected non-market economy (NME) wage rate. We received rebuttal briefs from petitioner, Since Hardware, and Forever Holdings on February 5, 2007.¹

¹ Since Hardware commented on the newly posted NME wage rate in its case brief, while Forever Holdings commented on the calculation of the NME wage rate in both its case brief and rebuttal brief.

Scope of the Antidumping Duty Order

For purposes of this order, the product covered consists of floor-standing, metal-top ironing tables, assembled or unassembled, complete or incomplete, and certain parts thereof. The subject tables are designed and used principally for the hand ironing or pressing of garments or other articles of fabric. The subject tables have full-height leg assemblies that support the ironing surface at an appropriate (often adjustable) height above the floor. The subject tables are produced in a variety of leg finishes, such as painted, plated, or matte, and they are available with various features, including iron rests, linen racks, and others. The subject ironing tables may be sold with or without a pad and/or cover. All types and configurations of floor-standing, metal-top ironing tables are covered by this review.

Furthermore, this order specifically covers imports of ironing tables, assembled or unassembled, complete or incomplete, and certain parts thereof. For purposes of this order, the term “unassembled” ironing table means a product requiring the attachment of the leg assembly to the top or the attachment of an included feature such as an iron rest or linen rack. The term “complete” ironing table means product sold as a ready-to-use ensemble consisting of the metal-top table and a pad and cover, with or without additional features, e.g. iron rest or linen rack. The term “incomplete” ironing table means product shipped or sold as a “bare board” i.e., a metal-top table only, without the pad and cover with or without additional features, e.g. iron rest or linen rack. The major parts or components of ironing tables that are intended to be covered by this order under the term “certain parts thereof” consist of the metal top component (with or without assembled supports and slides) and/or the leg components, whether or not attached together as a leg assembly. The order covers separately shipped metal top components and leg components, without regard to whether the respective quantities would yield an exact quantity of assembled ironing tables.

Ironing tables without legs (such as models that mount on walls or over doors) are not floor-standing and are specifically excluded. Additionally, tabletop or countertop models with short legs that do not exceed 12 inches in length (and which may or may not collapse or retract) are specifically excluded.

The subject ironing tables were previously classified under Harmonized Tariff Schedule of the United States (HTSUS) subheading 9403.20.0010. Effective July 1, 2003, the subject ironing tables are classified under new HTSUS subheading 9403.20.0011. The subject metal top and leg components are classified under HTSUS subheading 9403.90.8040. Although the HTSUS subheadings are provided for convenience and for Customs and Border Protection (CBP) purposes, the Department's written description of the scope remains dispositive.

Separate Rates

Since Hardware, Forever Holdings, and Foshan Shunde requested separate, company-specific antidumping duty rates. In the Preliminary Results, we found that Since Hardware, Forever Holdings, and Foshan Shunde all met the criteria for the application of a separate antidumping duty rate. See Preliminary Results, 71 FR at 53656-53658. The Department did not receive comments on this issue prior to these final results. Moreover, we have not received any information since the Preliminary Results with respect to Since Hardware, Forever Holdings, and Foshan Shunde that would warrant reconsideration of our separate-rates determinations with respect to these companies. Therefore, we have assigned individual dumping margins to Since Hardware, Forever Holdings, and Foshan Shunde for this review period.

Analysis of Comments Received

All issues raised in the briefs are addressed in the Memorandum to David M. Spooner, Assistant Secretary for Import Administration, from Stephen J. Claeys, Deputy Assistant Secretary for Import Administration, regarding Issues and Decision Memorandum for the Final Results in the First Administrative Review of Floor-standing, Metal-top Ironing Tables and Certain Parts Thereof from the People's Republic of China (March 12, 2007) (Issues and Decision Memorandum), which is hereby adopted by this notice. A list of the issues raised, all of which are in the Issues and Decision Memorandum, is attached to this notice as Appendix I. Parties can find a complete discussion of all issues raised in the briefs and the corresponding recommendations in this public memorandum, which is on file in the Central Records Unit (CRU), room B-099 of the Department of Commerce. In addition, a complete version of the Issues and Decision Memorandum can be accessed directly on the Web at http://trade.gov/ia. The paper copy and electronic version of the Issues and Decision Memorandum are identical in content.

Partial Rescission of Administrative Review

In the Preliminary Results, the Department issued a notice of intent to rescind this administrative review with respect to Shunde Yongjian. We stated in the Preliminary Results that if we determined not to collapse Foshan Shunde and Shunde Yongjian, and if we found that Foshan Shunde is not the successor in interest to Shunde Yongjian, we would rescind the review with respect to Shunde Yongjian because the company had no entries of subject merchandise during the POR. See Preliminary Results, 71 FR at 53656. Based on our analysis of information and comments received from interested parties on this issue, as discussed in depth in the accompanying Issues and Decision Memorandum at Comment 8, the Department has determined that Foshan Shunde and Shunde Yongjian should not be collapsed and that Foshan Shunde is not the successor-in-interest to Shunde Yongjian. Therefore, the Department is rescinding this administrative review with respect to Shunde Yongjian, but will continue to calculate a separate rate for Foshan Shunde. See “Separate Rates” section above.

Changes since the Preliminary Results

Based on the comments received from the interested parties and findings at verification, we have made the following company-specific changes to Since Hardware's margin calculation: 1) The Department will add a freight factor to Since Hardware's calculated normal value to account for the freight distance between its factory and leased processing facilities. See Issues and Decision Memorandum, at Comment 6 and Since Hardware Verification Report at 2. 1) The Department will include brokerage and handling expenses, which Since Hardware incurred from a non-market economy (NME) supplier, on all of its imports of material inputs. See Issues and Decision Memorandum, at Comment 6 and Since Hardware Verification Report at 2 and 20.

Additionally, based on the comments received from the interested parties, we have made the following company-specific changes to Forever Holdings' margin calculation: 1) The Department has changed the source used to value welding wire from the surrogate value for welding rod to the surrogate value for welding wire. See Issues and Decision Memorandum, at Comment 12. 2) The Department has valued accelerant using the surrogate value for sodium nitrite instead of the surrogate value used in the Preliminary Results. See Issues and Decision Memorandum, at Comment 12.

Based on the comments received from the interested parties and findings at verification, we have made the following company-specific changes to Foshan Shunde's margin calculation: 1) The Department has recalculated Foshan Shunde's water factor of production, based on verification findings. See Foshan Shunde Verification Report at 2 and Memorandum to the File through Christopher D. Riker, Program Manager, AD/CVD Operations, Office 9, from Kristina Horgan, Senior International Trade Compliance Analyst, AD/CVD Operations, Office 9, regarding Foshan Shunde Yongjian Houseware & Hardware Co., Ltd. (Foshan Shunde) Analysis Memorandum for the Final Results of Review (March 12, 2007) (Foshan Shunde Analysis Memo) at 2. 2) The Department has not used Foshan Shunde's reported plug input in the normal value calculation, based on verification findings. See Foshan Shunde Verification Report at 2 and Foshan Shunde Analysis Memo at 2. 3) The Department has also added Foshan Shunde's by-product to the normal value calculation, instead of subtracting it as was done in the Preliminary Results. See Issues and Decision Memorandum, at Comment 10, and Foshan Shunde Analysis Memo at 3.

For the final results, we also revised our calculation of surrogate financial ratios for factory overhead, selling, general and administrative expenses, and profit, to use the 2005 annual report from Infiniti Modules Pvt. Ltd. (Infiniti Modules), and used these ratios in our margin calculations. See Issues and Decision Memorandum, at Comments 1 and 2. We also used the revised NME wage rate, as posted on the Department's website on February 2, 2007. See Issues and Decision Memorandum, at Comment 3. Finally, we revised the surrogate value for hot rolled steel for the final results. See Issues and Decision Memorandum, at Comment 5.

Final Results of Review

We determine that the following antidumping duty margins exist:

Exporter | Margin (percent)
Since Hardware (Guangzhou) Co., Ltd. | 0.51%
Foshan Shunde Yongjian Houseware & Hardware Co., Ltd. | 2.37%
Forever Holdings Ltd. | 10.18%

For details on the calculation of the antidumping duty weighted-average margin for each company, see the respective company's analysis memorandum for the final results of the first administrative review of the antidumping duty order on ironing tables from the PRC, dated March 12, 2007. Public versions of these memoranda are on file in the CRU.

Assessment Rates

Pursuant to 19 CFR 351.212(b), the Department will determine, and CBP shall assess, antidumping duties on all appropriate entries. The Department intends to issue assessment instructions to CBP 15 days after the date of publication of these final results of review. For assessment purposes, where possible, we calculated importer-specific assessment rates for ironing tables from the PRC via ad valorem duty assessment rates based on the ratio of the total amount of the dumping margins calculated for the examined sales to the total entered value of those same sales. We will instruct CBP to assess antidumping duties on all appropriate entries covered by this review.

Cash Deposit Requirements

The following cash deposit requirements will be effective upon publication of these final results of this administrative review for all shipments of the subject merchandise entered, or withdrawn from warehouse, for consumption on or after the publication date, as provided for by section 751(a)(2)(C) of the Act: (1) for the exporters listed above, the cash deposit rate will be established in these final results of review (except, if the rate is zero or de minimis, i.e., less than 0.5 percent, no cash deposit will be required for that company); (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 157.68 percent; and (4) for all non-PRC exporters of subject merchandise which have not received their own rate, the cash deposit rate will be the rate applicable to the PRC exporters that supplied that non-PRC exporter. These deposit requirements, when imposed, shall remain in effect until publication of the final results of the next administrative review.

Notification to Interested Parties

This notice also serves as the final reminder to importers of their responsibility under 19 CFR 351.402(f) to file a certificate regarding the reimbursement of antidumping duties prior to liquidation of the relevant entries during this review period. Failure to comply with this requirement could result in the Secretary's presumption that reimbursement of antidumping duties occurred and in the subsequent assessment of double antidumping duties.

This notice also serves as the only reminder to parties subject to administrative protective order (APO) of their responsibility concerning the return/destruction or conversion to judicial protective order of proprietary information disclosed under APO in accordance with 19 CFR 351.305(a)(3). Failure to comply is a violation of the APO.

This administrative review and this notice are published in accordance with sections 751(a)(1) and 777(i)(1) of the Act.

Dated: March 12, 2007.
David M. Spooner,
Assistant Secretary for Import Administration.

Appendix I

General Issues

Comment 1: Appropriate Source for Financial Ratios Surrogate Values

Comment 2: Classification of Labor in Financial Ratios

Comment 3: NME Wage Rate

Comment 4: Zeroing

Comment 5: Appropriate Surrogate Value for Hot-Rolled Steel

Company-Specific Issues

Since Hardware-Related Issues

Comment 6: Market Economy Purchases

Comment 7: By-Product Offset

Foshan Shunde-Related Issues

Comment 8: Rescission of Shunde Yongjian and Foshan Shunde

Comment 9: Calculating a Margin for Foshan Shunde

Comment 10: By-Product Clerical Error

Forever Holdings-Related Issues

Comment 11: Rescission of Forever Holdings

Comment 12: Clerical Errors in Surrogate Values

[FR Doc. E7-5170 Filed 3-20-02; 8:45 am]

BILLING CODE 3510-DS-S